DEPARTMENT OF COMMERCE

National Oceanic and Atmospheric Administration

50 CFR Part 660

[Docket No. 241022-0278]

RIN 0648-BN48

Magnuson-Stevens Act Provisions; Fisheries Off West Coast States; Pacific Coast Groundfish Fishery; 2025-2026 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective March 6, 2025.

ADDRESSES:

Electronic Access

This rule is accessible via the internet at the Office of the Federal Register website at https://www.federalregister.gov. Background information and documents are available at the Pacific Fishery Management Council's website at http://www.pcouncil.org/.

FOR FURTHER INFORMATION CONTACT: Christopher Biegel, phone: 503-231-6291 or email: christopher.biegel@noaa.gov.

SUPPLEMENTARY INFORMATION:

Background

The Pacific Coast Groundfish Fishery Management Plan (PCGFMP) and its implementing regulations at title 50 in the Code of Federal Regulations (CFR), part 660, subparts C through G, regulate fishing for over 90 species of groundfish off the coasts of Washington, Oregon, and California. The Pacific Fishery Management Council (Council) develops groundfish harvest specifications and management measures for 2-year periods (i.e., a biennium). NMFS published the final rule to implement harvest specifications and management measures for the 2025-2026 biennium for most species managed under the PCGFMP on December 16, 2024 (89 FR 101514). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

At its November 13-18, 2024 meeting, the Council recommended increasing the open access (OA) trip limit for shelf rockfish in the area between 40°10′ N lat. and 42° N lat. to be consistent with that in the area north of 42° N lat. The current trip limit for OA shelf rockfish between 40°10′ N lat. and 42° N lat. is 1,200 lb (544 kg) per 2 months. Pacific Coast groundfish fisheries are managed using harvest specifications or limits (e.g., overfishing limits (OFL), acceptable biological catch (ABC), annual catch limits (ACL) and harvest guidelines (HG)) recommended biennially by the Council and based on the best scientific information available at that time (50 CFR 660.60(b)). During development of the harvest specifications, the Council also recommended management measures (e.g., trip limits, area closures, and bag limits) that are meant to mitigate catch so as not to exceed the harvest specifications. The harvest specifications and mitigation measures developed for the 2025-2026 biennium used data through the 2023 fishing year. Each of the adjustments to mitigation measures discussed below are based on updated fisheries information that was unavailable when the analysis for the current harvest specifications was completed. As new fisheries data becomes available, adjustments to mitigation measures are projected so as to help harvesters achieve but not exceed the harvest limits.

At the November 2024 Council meeting, the Groundfish Management Team (GMT) received a request to increase the OA trip limit for the shelf rockfish north of 40°10′ N lat. complex beginning in 2025. The request was aimed to provide relief to the OA sector who have been affected by closures to protect California quillback rockfish. Some vessels have landed more than 80 percent of their 2024 trip limit over multiple periods and the request may allow those participants to utilize the stocks in the complex that are under-attained (i.e., bocaccio and chilipepper rockfish). Absent inseason action, the 2025 trip limits would have remained the same, except for a change in the limit structure, i.e., the 2024 trip limit was a monthly limit whereas the 2025 limit is a bimonthly limit. The GMT analyzed the following two options to increase the shelf rockfish complex trip limits: (1) increased trip limits in the area between 40°10′ N lat. and 42° N lat. to be consistent with that in the area north of 42° N lat., and (2) Option 1 as well as doubling the trip limits north of 40°10′ N lat. As a whole, the non-trawl shelf rockfish complex non-trawl allocation of the annual catch limit (ACL) is underutilized. However, individual fishermen are attaining close to the trip limit, which increases the risk of regulatory discards.

To consider increasing the OA shelf complex trip limits in the area 40°10′ N lat. and 42° N lat., the GMT evaluated non-trawl species-specific mortality relative to ACL contributions to the shelf complex. During their analysis, vermilion/sunset rockfish, which is one of the stocks managed in the shelf complex, attainment arose as a concern, because the California harvest of vermilion/sunset rockfish has exceeded area-specific ACL contributions in recent years. Vermilion/sunset rockfish off California is managed in a split between two shelf rockfish stock complexes north and south of 40°10′ N lat. To prevent exceedance of the area-specific overfishing limit of the California vermilion/sunset rockfish stock as defined for status determination, the NMFS will maintain management measures, including harvest targets, that aim to keep mortality of vermilion/sunset rockfish in all areas south of 42° N lat. within the OFL contributions associated with that area (i.e., the combined OFL contributions for northern and southern California). While the combined ACL contribution of vermilion/sunset rockfish south of 42° N lat. to the shelf rockfish complexes north and south of 40°10′ N lat. has been exceeded in the past, the Agenda Item I.6.a, Supplemental CDFW Report 1, November 2024 notes that vermilion/sunset rockfish mortality is lower in 2024 than in recent years and is projected to remain within California-specific harvest targets. Similar attainment is expected in 2025. The GMT discussed creating a sub-trip limit for vermilion/sunset rockfish north of 40°10′ N lat., similar to the sub-trip limit for vermilion/sunset rockfish in the shelf rockfish complex trip limit south of 40°10′ N lat. The GMT determined this action could not be accomplished inseason and would instead need to be addressed in the biennial harvest specification process. Table 5 of the GMT report describes the additional projected vermilion/sunset rockfish mortality relative to the trip limit options analyzed. The respective ACL contribution for vermilion/sunset rockfish off California are not at risk of being exceeded with the addition of 0.1 mt mortality associated with the Option 1 trip limit. Noting the limited impacts to species-specific contributions to the shelf complex including vermilion/sunset rockfish, the GMT recommended increasing the OA trip limit for shelf rockfish in the area between 40°10′ N lat. and 42° N lat. to be consistent with that in the area north of 42° N lat. (i.e., Option 1 in table 4).

Therefore, the Council recommended, and NMFS is implementing, a trip limit increase for OA shelf rockfish trip limits between 40°10′ N lat and 42° N lat. to 1,600 lbs/2 months in table 3b (North) to part 660, subpart F.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Christopher Biegel in NMFS West Coast Region (see FOR FURTHER INFORMATION CONTACT, above), or view at the NMFS West Coast Groundfish website: https://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document modify trip limits in California to keep catch within allocations established by the 2025-2026 harvest specifications. No aspect of this action is controversial, and changes of this nature were anticipated in the final rule for the 2025-2026 harvest specifications and management measures which published on December 16, 2024 (89 FR 101514).

The Council recommended, and NMFS is implementing, an increase to the OA trip limit for shelf rockfish in the area between 40°10′ N. lat and 42° N lat. to be consistent with that in the area north of 42° N lat. As a whole, the non-trawl shelf rockfish complex allocation is underutilized and providing the OA fishery with increased access to these stocks would have economic benefits without jeopardizing the ACL.

Delaying implementation to allow for public comment would likely reduce the economic benefits to the commercial fishing industry and the businesses that rely on that industry because it is unlikely the new regulations would publish and could be implemented in time to realize the projected benefits to fishing communities and the resource. A delay in implementation could also contribute to unnecessarily discarded and largely wasted fish for any fishermen who are attaining the lower trip limit, which could otherwise be landed to provide food and revenue, and responsible use of the resource. Therefore, providing a comment period for this action could limit the economic benefits to the fishery, and would hamper the achievement of optimum yield from the affected fisheries.

Therefore, the NMFS finds reason to waive the 30-day delay in effectiveness pursuant to 5 U.S.C. 553(d)(1) so that this final rule may become effective upon publication in the Federal Register. The adjustments to management measures in this document affect commercial fisheries by increasing opportunity and allowing greater economic benefit. These adjustments were requested by the Council's advisory bodies, as well as members of industry during the Council's November 2024 meeting, and recommended unanimously by the Council. No aspect of this action is controversial, and changes of this nature were anticipated in the biennial harvest specifications and management measures established through a notice and comment rulemaking for 2025-2026 (89 FR 101514).

List of Subjects in 50 CFR Part 660

Fisheries, Fishing, Indian fisheries.

Dated: February 28, 2025.
Samuel D. Rauch III,
Deputy Assistant Administrator for Regulatory Programs, National Marine Fisheries Service.

For the reasons set out in the preamble, NOAA amends 50 CFR part 660 as follows:

PART 660—FISHERIES OFF WEST COAST STATES

1. The authority citation for part 660 continues to read as follows:

Authority: 16 U.S.C. 1801 et seq., 16 U.S.C. 773 et seq., and 16 U.S.C. 7001 et seq.

2. Amend table 3b (North) to part 660, subpart F by revising the entry for “Shelf rockfish complex (42°00′ N lat.-40°10′ N lat.)” to read as follows:

Table 3b (North) to Part 660, Subpart F—Trip Limits for Open Access North of 40°10′ N Lat.
Species | Trip limit
* * * * * * *
Shelf rockfish complex (42°00′ N lat.-40°10′ N lat.) | 1,600 lb/2 months.
* * * * * * *

* * * * *

[FR Doc. 2025-03556 Filed 3-5-25; 8:45 am]

BILLING CODE 3510-22-P